ENVIRONMENTAL PROTECTION AGENCY

40 CFR Part 63

[AD-FRL-7010-1]

RIN 2060-AH47

National Emission Standards for Hazardous Air Pollutants: Group I Polymers and Resins and Group IV Polymers and Resins

AGENCY: Environmental Protection Agency (EPA).

ACTION: Final rule; technical amendments.

SUMMARY: The EPA is taking final action to amend certain portions of the national emission standards for hazardous air pollutants (NESHAP) for Group I Polymers and Resins; and the NESHAP for Group IV Polymers and Resins, which were promulgated in September 1996. These changes consist of minor cross referencing and typographical errors, as well as minor clarifications.

These amendments will not change the basic control requirements of the NESHAP or the level of health protection they provide. These amendments do not alter the requirement for new and existing major sources to control emissions of hazardous air pollutants to the level reflecting application of the maximum achievable control technology.

Section 553 of the Administrative Procedure Act provides that, when an agency for good cause finds that notice and public procedure are impracticable, unnecessary, or contrary to the public interest, the agency may issue a rule without providing notice and an opportunity for public comment. The EPA has determined that there is good cause for making these rule amendments final without prior proposal and opportunity for comment because these minor technical corrections are noncontroversial in nature, and because they do not substantively change the requirements of these NESHAP. Thus, notice and public procedure are unnecessary. The EPA finds that this constitutes good cause under section 553 of the Administrative Procedure Act.

EFFECTIVE DATE: July 16, 2001.

ADDRESSES: Docket number A-92-44 for the Group I Polymers and Resins NESHAP and Docket number A-92-45 for the Group IV Polymers and Resins NESHAP contain supporting information used in developing the standards. The dockets are located at the U.S. EPA, Room M-1500, 1200 Pennsylvania Avenue, Washington, DC 20460, and may be inspected from 8:30 a.m. to 5:30 p.m., Monday through Friday, excluding legal holidays.

FOR FURTHER INFORMATION CONTACT: For information concerning these final rule amendments, contact Mr. Robert Rosensteel, Organic Chemicals Group, Emission Standards Division (MD-13), Office of Air Quality Planning and Standards, U.S. EPA, Research Triangle Park, North Carolina 27711, telephone number (919) 541-5608, facsimile number (919) 541-3470, electronic mail address: rosensteel.bob@epa.gov.

SUPPLEMENTARY INFORMATION: Docket. The docket reflects the full administrative record for this action and includes all the information relied upon by EPA in the development of these NESHAP. The docket is a dynamic file because material is added throughout the rulemaking process. The docketing system is intended to allow members of the public and industries involved to readily identify and locate documents so that they can effectively participate in the rulemaking process. Along with the proposed and promulgated NESHAP and their preambles, the contents of the docket will serve as the record in the case of judicial review. (See section 307(d)(7)(A) of the Clean Air Act (CAA).) The regulatory text and other materials related to this rulemaking are available for review in the docket or copies may be mailed on request from the Air Docket by calling (202) 260-7548. A reasonable fee may be charged for copying docket materials.

World Wide Web (WWW). In addition to being available in the docket, an electronic copy of this action will also be available on the WWW through the Technology Transfer Network (TTN). Following the Administrator's signature, a copy of the action will be posted on the TTN's policy and guidance page for newly proposed or promulgated rules http://www.epa.gov/ttn/oarpg. The TTN provides information and technology exchange in various areas of air pollution control. If more information regarding the TTN is needed, call the TTN HELP line at (919) 541-5384.

Regulated Entities. The regulated category and entities affected by this action include:

Category | SIC codes | NAICS | Examples of regulated entities
Industry | 2821, 2822 | 325211, 325212 | Butyl Rubber, Halobutyl Rubber, Epichlorohydrin Elastomer, Ethylene Propylene Rubber, Hypalon ™, Neoprene, Nitrile Butadiene Rubber, Nitrile Butadiene Latex, Polybutadiene Rubber, Styrene-Butadiene Rubber or Latex, Acrylonitrile Butadiene Styrene Resin, Styrene Acrylonitrile Resin, Methyl Methacrylate Acrylonitrile Butadiene Styrene Resin, Methyl Methacrylate Butadiene Styrene Resin, Poly(ethylene terephthalate) Resin, Polystyrene Resin, and Nitrile Resin producers.

This table is not intended to be exhaustive, but rather provides a guide for readers likely to be interested in the amendments to the standards affected by this action. To determine whether your facility is regulated by this action, you should carefully examine all of the applicability criteria in § 63.480 of the Group I Polymers and Resins NESHAP and § 63.1310 of the Group IV Polymers and Resins NESHAP. If you have any questions regarding the applicability of these amendments to a particular entity, consult the person listed in the preceding FOR FURTHER INFORMATION CONTACT section.

I. Background

On September 5, 1996 (61 FR 46906) and September 12, 1996 (61 FR 48208), the EPA promulgated NESHAP for Group I Polymers and Resins (40 CFR part 63, subpart U) and the NESHAP for Group IV Polymers and Resins (40 CFR part 63, subpart JJJ), respectively. In November 1996, petitions for review of the September 1996 Groups I and IV Polymers and Resins NESHAP were filed in the U.S. Court of Appeals for the District of Columbia Circuit. The petitioners raised numerous technical issues and concerns with these NESHAP. Based on a settlement agreement that was reached in 1998 between EPA and the petitioners, EPA promulgated amendments to these NESHAP on June 19, 2000 (65 FR 38030). After promulgation of those amendments, based in part on information provided by industry, EPA determined the rule required some minor changes both to carry out the purpose of the June 19, 2000 amendments and to correct errors in sections of the rule. These changes consist of minor referencing and typographical corrections, removing discrepancies between subparts U and JJJ, as well as minor clarifications. In this action, we are promulgating amendments to correct these minor errors.

In addition to these final amendments to subparts U and JJJ, other actions taken to amend various aspects of subparts U and JJJ since the original promulgation of these NESHAP in September of 1996 include the following Federal Register notices: January 14, 1997 (62 FR 1835), equipment leaks compliance date extension for both NESHAP; June 6, 1997 (62 FR 30993), equipment leaks compliance date extension for poly(ethylene terephthalate) (PET) resin affected sources; July 15, 1997 (62 FR 37720), minor corrections and clarifications to the NESHAP; February 27, 1998 (63 FR 9944), change in the effective date to February 27, 1998 for subpart JJJ; March 31, 1998 (63 FR 15312), a temporary compliance extension until February 27, 2001 for existing affected sources producing PET using the continuous terephthalic acid (TPA) high viscosity multiple end finisher process; December 9, 1998 (63 FR 67879), notification of a proposed partial settlement; March 9, 1999 (64 FR 11536), clarifications and corrections to the NESHAP; March 9, 1999 (64 FR 11561), proposed amendments to the NESHAP; May 7, 1999 (64 FR 24511), withdrawal of one amendment from the amendments in the March 9, 1999 direct final rule as a result of adverse comments; June 8, 1999 (64 FR 30406), equipment leaks compliance date extension for new and existing affected sources producing PET; June 8, 1999 (64 FR 30456), proposed denial of petition for reconsideration of the equipment leak requirements in subpart JJJ; June 30, 1999 (64 FR 35023), indefinite stay of the compliance dates for certain provisions under subparts U and JJJ; June 19, 2000 (65 FR 38030), promulgated amendments to the NESHAP; August 29, 2000 (65 FR 52319), indefinite stay of compliance date for existing affected sources producing PET using the TPA high viscosity multiple end finisher process; October 26, 2000 (65 FR 64161), withdrawal of indefinite stay of compliance date for existing affected sources producing PET using the TPA high viscosity multiple end finisher process; February 23, 2001 (66 FR 11233), indefinite stay of compliance date for existing affected sources producing PET using the TPA high viscosity multiple end finisher process; and February 26, 2001 (66 FR 11543), compliance date extension for new and existing affected sources producing PET, in order to complete reconsideration of the equipment leaks requirements in subpart JJJ.

II. Summary of Corrections

Today's changes are described in Table 2 to this preamble for the convenience of the reader.

40 CFR, Part 63 | Change
Subpart U:
§ 63.480(i)(2)(ii) | Corrects compliance date.
§ 63.482 | Clarifies the definitions of the terms “Group 1 wastewater stream” and “Reconstruction” by removing an internal inconsistency.
§ 63.485(k) | Adds cross reference.
§ 63.487(a)(1)(i) | Corrects typographical error.
§ 63.487(b)(2) | Clarifies when correction to 3 percent oxygen is required for combustion control devices by making language internally consistent within the rule.
§ 63.487(f)(1)(ii) | Corrects cross reference.
§ 63.487(g)(1)(ii) | Corrects cross reference.
§ 63.489(e)(1)(ii) | Clarifies the emission reduction options.
§ 63.501(c) | Clarifies exemptions to certain wastewater requirements.
§ 63.506(e)(5)(i) | Removes the inapplicable term “continuous monitoring system performance evaluations.”
§ 63.506(e)(5)(ii)(D) | Corrects cross reference.
§ 63.506(e)(6)(iii)(A) | Corrects cross reference.
§ 63.506(e)(7)(ii)(A) | Removes cross reference to (e)(7)(iii).
§ 63.506(e)(7)(ii)(B) | Removes cross reference to (e)(7)(ii).
Table 1 | Clarifies compliance demonstration requirements for flares.
Table 2 | Changes § 63.183 to § 63.182 and notes that § 63.131 is a reserved section.
Table 6 | Moves entry regarding “Absorber” control/recovery device into the correct columns.
Table 9 | Corrects due dates for Precompliance Report and Emissions Averaging Plan; moves text regarding the Precompliance Report in “Description of Report” to the correct “Due Date” column.
Subpart JJJ:
§ 63.1310(i)(1)(i) | Corrects text, removes “as provided in § 63.6(b)” consistent with Table 1 entry.
§ 63.1310(i)(2)(ii) | Removes reference to § 63.1329 applicable to existing process contact cooling towers.
§ 63.1310(i)(2)(iii) | Removes reference to § 63.1329 applicable to existing process contact cooling towers.
§ 63.1311(b) | Corrects compliance date that was inadvertently changed in a previous notice.
§ 63.1312 | Clarifies the definition of the term “Group 1 wastewater stream” by removing an internal inconsistency.
§ 63.1315(a)(9) | Adds cross reference.
§ 63.1315(d) | Removes “are not subject to the provisions of this section and instead.”
§ 63.1316(b)(1)(i)(B) | Adds word “or” to the end of the paragraph.
§ 63.1318(a) | Clarifies performance test requirements.
§ 63.1319(a) | Corrects cross reference.
§ 63.1320(a) | Corrects cross reference.
§ 63.1320(b)(3) | Removes incorrect citation.
§ 63.1322(f)(1)(ii) | Corrects cross reference.
§ 63.1322(g)(1)(ii) | Corrects cross reference.
§ 63.1323(b)(6)(i)(C) | Corrects cross reference.
§ 63.1323(h)(1) | Adds text “. . . after the last recover device (if any recovery devices are present) . . .” to clarify the location for determining halogen status.
§ 63.1324(f)(1)(ii) | Clarifies that there are two emission reduction control options.
§ 63.1327(b) | Corrects cross reference.
§ 63.1330(a) | Revises paragraph (a) to be consistent with added paragraphs (d) and (e).
§ 63.1330(b)(8)(i)-(ii) | Removes typographical error—extra word “of” in each paragraph.
§ 63.1330(d) | Adds paragraph inadvertently left out of the NESHAP.
§ 63.1330(e) | Adds paragraph inadvertently left out of the NESHAP.
§ 63.1335(e)(5)(i) | Removes the inapplicable term “continuous monitoring system performance evaluations.”
§ 63.1335(e)(7)(ii)(A) | Removes cross reference (e)(7)(ii).
§ 63.1335(e)(7)(i)(B) | Removes cross reference (e)(7)(ii).
Table 1 | Clarifies compliance demonstration requirements for flares.
Table 6 | Adds check marks for acrylonitrile and 1,3-butadiene to MABS row.
Table 6 | Adds check marks for methylmethacrylate to MABS and MBS rows.
Table 7 | Corrects superscript error for Precompliance Report in the fourth record/report for scrubber for halogenated batch vents.
Table 9 | Corrects due date for Precompliance Report; moves text regarding the Precompliance Report in “Description of Report” to the correct “Due Date” column; corrects Emissions Averaging Plan due date.

III. Administrative Requirements

Under Executive Order 12866 (58 FR 51735, October 4, 1993), this action is not a “significant regulatory action” and is therefore not subject to review by the Office of Management and Budget. Because the Agency has made a “good cause” finding that this action is not subject to notice-and-comment requirements under the Administrative Procedure Act or any other statute (see summary), it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of UMRA. These rule amendments also do not significantly or uniquely affect the communities of tribal governments, as specified by Executive Order 13175 (65 FR 67249, November 6, 2000). These rule amendments will not have substantial direct effects on the States, on the relationship between the national government and the States, or on the distribution of power and responsibilities among the various levels of government, as specified in Executive Order 13132 (64 FR 43255, August 10, 1999). These rule amendments also are not subject to Executive Order 13045 (62 FR 19885, April 23, 1997), because they are not economically significant.

This technical correction action does not involve technical standards; thus, the requirements of section 12(d) of the National Technology Transfer and Advancement Act of 1995 (15 U.S.C. 272 note) do not apply. These rule amendments also do not involve special consideration of environmental justice related issues as required by Executive Order 12898 (59 FR 7629, February 16, 1994). In issuing these amendments, EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of these rule amendments in accordance with the “Attorney General's Supplemental Guidelines for the Evaluation of Risk and Avoidance of Unanticipated Takings” issued under the Executive Order. These rule amendments do not impose an information collection burden under the provisions of the Paperwork Reduction Act of 1995 (44 U.S.C. 3501 et seq.). The EPA's compliance with these statutes and Executive Orders for the underlying rules is discussed in the September 5, 1996 (61 FR 46906) and the September 12, 1996 (61 FR 48208) Federal Register notices.

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary or contrary to the public interest. This determination must be supported by a brief statement (5 U.S.C. 808(2)). As stated previously, EPA has made such a good cause finding, including the reasons therefor, and established an effective date of July 16, 2001. The EPA will submit a report containing this rule and other required information to the U.S. Senate, the U.S. House of Representatives, and the Comptroller General of the United States prior to publication of the rule in the Federal Register. This action is not a “major rule” as defined by 5 U.S.C. 804(2).

List of Subjects in 40 CFR Part 63

Environmental protection, Administrative practice and procedure, Air pollution control, Hazardous substances, Intergovernmental relations, Reporting and recordkeeping requirements.

Dated: July 3, 2001.
Christine Todd Whitman,
Administrator.

For the reasons set out in the preamble, part 63 of title 40, chapter I of the Code of Federal Regulations is amended as follows:

PART 63—NATIONAL EMISSION STANDARDS FOR HAZARDOUS AIR POLLUTANTS FOR SOURCE CATEGORIES

1. The authority citation for part 63 continues to read as follows:

Authority: 42 U.S.C. 7401, et seq.

Subpart U—National Emission Standards for Hazardous Air Pollutant Emissions: Group I Polymers and Resins

2. Section 63.480 is amended by revising paragraph (i)(2)(ii) to read as follows:

§ 63.480 Applicability and designation of affected sources.

* * * * *

(i) * * *

(2) * * *

(ii) If any components are replaced at an existing affected source such that the criteria specified in paragraphs (i)(2)(i)(A) and (i)(2)(i)(B) of this section are not met and that replacement of components creates one or more emission points (i.e., either newly created Group 1 emission points or emission points that change from Group 2 to Group 1) or causes any other emission point to be added (i.e., Group 2 emission points, back-end process operations subject to §§ 63.493 and 63.500, and heat exchange systems and equipment leak components subject to § 63.502), the resulting emission point(s) shall be subject to the applicable requirements for an existing affected source. The resulting emission point(s) shall be in compliance by 120 days after the date of initial start-up or by the appropriate compliance date specified in § 63.481 (i.e., July 31, 1997 for most equipment leak components subject to § 63.502, and June 19, 2001 for emission points other than equipment leaks), whichever is later.

* * * * *

3. Section 63.482(b) is amended by revising the definitions “Group 1 wastewater stream” and “Reconstruction.”

§ 63.482 Definitions.

* * * * *

(b) * * *

Group 1 wastewater stream means a wastewater stream consisting of process wastewater from an existing or new affected source that meets the criteria for Group 1 status in § 63.132(c), with the exceptions listed in § 63.501(a)(10) for the purposes of this subpart (i.e., for organic HAP as defined in this section).

* * * * *

Reconstruction means the replacement of components of an affected source or of a previously unaffected stationary source that becomes an affected source as a result of the replacement, to such an extent that:

(1) The fixed capital cost of the new components exceeds 50 percent of the fixed capital cost that would be required to construct a comparable new source; and

(2) It is technologically and economically feasible for the reconstructed source to meet the provisions of this subpart.

* * * * *

4. Section 63.485 is amended by revising the first sentence of paragraph (k) to read as follows:

§ 63.485 Continuous front-end process vent provisions.

* * * * *

(k) When § 63.114(e) or § 63.117(f) specifies that an owner or operator shall submit the information required in § 63.152(b) in order to establish the parameter monitoring range, the owner or operator of an affected source shall comply with the provisions of § 63.505 for establishing the parameter monitoring level and shall comply with § 63.506(e)(5) for the purposes of reporting information related to the establishment of the parameter monitoring level, for the purposes of this subpart. * * *

* * * * *

5. Section 63.487 is amended as follows:

a. By revising paragraph (a)(1)(i);

b. By revising paragraph (b)(2);

c. In paragraph (f)(1)(ii), by revising the reference to “§ 63.506(e)(5)(iv)” to read “§ 63.506(e)(5)(ix)”.

d. In paragraph (g)(1)(ii), by revising the reference to “§ 63.506(e)(5)(iv)” to read “§ 63.506(e)(5)(ix)”.

The revisions to paragraphs (a)(1)(i) and (b)(2) read as follows:

§ 63.487 Batch front-end process vents—reference control technology.

(a) * * *

(1) * * *

(i) The owner or operator of the affected sources shall comply with the requirements of § 63.504(c) for the flare.

* * * * *

(b) * * *

(2) For each aggregate batch vent stream, reduce organic HAP emissions by 90 weight percent or to a concentration of 20 ppmv, whichever is less stringent, on a continuous basis using a control device. For purposes of complying with the 20 ppmv outlet concentration standard, the outlet concentration shall be calculated on a dry basis. When a combustion device is used for purposes of complying with the 20 ppmv outlet concentration standard, the concentration shall be corrected to 3 percent oxygen if supplemental combustion air is used to combust the emissions. If supplemental combustion air is not used, a correction to 3 percent oxygen is not required.

* * * * *

6. Section 63.489 is amended by revising paragraph (e)(1)(ii) to read as follows:

§ 63.489 Batch front-end process vents—monitoring equipment.

* * * * *

(e) * * *

(1) * * *

(ii) For aggregate batch vent streams using a control device to comply with § 63.487(b)(2), the established level shall reflect the emission reduction requirement of either 90 percent or 20 ppmv specified in § 63.487(b)(2).

* * * * *

7. Section 63.501 is amended by revising paragraph (c) to read as follows:

§ 63.501 Wastewater provisions.

* * * * *

(c) The provisions of paragraphs (a) and (b) of this section do not apply to the following:

(1) Back-end streams originating from equipment whose only elastomer products are latex products.

(2) Back-end streams at affected sources that are subject to a residual organic HAP limitation in § 63.494(a), and that are complying with these limitations through the use of stripping technology.

* * * * *

8. Section 63.506 is amended as follows:

a. By revising paragraph (e)(5)(i) introductory text;

b. In paragraph (e)(5)(ii)(D), by revising the reference to “§ 63.505 (b)(3)(ii)” to read “§ 63.505 (b)(3)(iii)';

c. In paragraph (e)(6)(iii)(A), by revising the references to “§ 63.146(f)” to read “§ 63.146(g)” and “§ 63.104(b)(4)” to read “§ 63.104(f)(2); and

d. By revising paragraph (e)(7)(ii)(A); and

e. By revising paragraph (e)(7)(ii)(B).

The revisions read as follows:

§ 63.506 General recordkeeping and reporting provisions.

* * * * *

(e) * * *

(5) * * *

(i) The results of any emission point group determinations, process section applicability determinations, performance tests, inspections, any other information used to demonstrate compliance, values of monitored parameters established during performance tests, and any other information required to be included in the Notification of Compliance Status under §§ 63.122 and 63.484 for storage vessels, § 63.117 for continuous front-end process vents, § 63.492 for batch front-end process vents, § 63.499 for back-end process operations, § 63.146 for process wastewater, and § 63.503 for emission points included in an emissions average. In addition, the owner or operator of an affected source shall comply with paragraphs (e)(5)(i)(A) and (e)(5)(i)(B) of this section.

* * * * *

(7) * * *

(i) * * *

(ii) * * *

(A) If use of a nominal control efficiency is part of the initial Emissions Averaging Plan described in paragraph (e)(4)(ii) of this section, the information shall be submitted with the Emissions Averaging Plan.

(B) If an owner or operator elects to use a nominal control efficiency after submittal of the initial Emissions Averaging Plan as described in paragraph (e)(4)(ii) of this section, the information shall be submitted at the discretion of the owner or operator.

* * * * *

9. Revise Tables 1, 2, 5, 6, and 9 to subpart U of part 63, to read as follows:

Table 1 to Subpart U of Part 63
[Applicability of general provisions to subpart U affected sources]
Reference | Applies to subpart U | Explanation
§ 63.1(a)(1) | Yes | § 63.482 specifies definitions in addition to or that supersede definitions in § 63.2.
§ 63.1(a)(2) | Yes.
§ 63.1(a)(3) | Yes | § 63.481(f) through (k) and § 63.160(b) identify those standards which may apply in addition to the requirements of subparts U and H of this part, and specify how compliance shall be achieved.
§ 63.1(a)(4) | Yes | Subpart U (this table) specifies the applicability of each paragraph in subpart A to subpart U.
§ 63.1(a)(5) | No | [Reserved.].
§ 63.1(a)(6)-(8) | Yes.
§ 63.1(a)(9) | No | [Reserved.].
§ 63.1(a)(10) | Yes.
§ 63.1(a)(11) | Yes.
§ 63.1(a)(12)-(14) | Yes.
§ 63.1(b)(1) | No | § 63.480(a) contains specific applicability criteria.
§ 63.1(b)(2) | Yes.
§ 63.1(b)(3) | No | § 63.480(b) provides documentation requirements for EPPUs not considered affected sources.
§ 63.1(c)(1) | Yes | Subpart U (this table) specifies the applicability of each paragraph in subpart A to subpart U.
§ 63.1(c)(2) | No | Area sources are not subject to subpart U.
§ 63.1(c)(3) | No | [Reserved.].
§ 63.1(c)(4) | Yes.
§ 63.1(c)(5) | Yes | Except that affected sources are not required to submit notifications that are not required by subpart U.
§ 63.1(d) | No | [Reserved.].
§ 63.1(e) | Yes.
§ 63.2 | Yes | § 63.482 specifies those subpart A definitions that apply to subpart U.
§ 63.3 | Yes.
§ 63.4(a)(1)-(3) | Yes.
§ 63.4(a)(4) | No | [Reserved.].
§ 63.4(a)(5) | Yes.
§ 63.4(b) | Yes.
§ 63.4(c) | Yes.
§ 63.5(a)(1) | Yes | Except the terms “source” and “stationary source” should be interpreted as having the same meaning as “affected source”.
§ 63.5(a)(2) | Yes.
§ 63.5(b)(1) | Yes | Except § 63.480(i) defines when construction or reconstruction is subject to new source standards.
§ 63.5(b)(2) | No | [Reserved.].
§ 63.5(b)(3) | Yes.
§ 63.5(b)(4) | Yes | Except that the Initial Notification and § 63.9(b) requirements do not apply.
§ 63.5(b)(5) | Yes.
§ 63.5(b)(6) | Yes | Except that § 63.480(i) defines when construction or reconstruction is subject to the new source standards.
§ 63.5(c) | No | [Reserved.].
§ 63.5(d)(1)(i) | Yes | Except that the references to the Initial Notification and § 63.9(b)(5) do not apply.
§ 63.5(d)(1)(ii) | Yes | Except that § 63.5(d)(1)(ii)(H) does not apply.
§ 63.5(d)(1)(iii) | No | § 63.506(e)(5) and § 63.502(f) specify Notification of Compliance Status requirements.
§ 63.5(d)(2) | No.
§ 63.5(d)(3) | Yes | Except § 63.5(d)(3)(ii) does not apply, and equipment leaks subject to § 63.502 are exempt.
§ 63.5(d)(4) | Yes.
§ 63.5(e) | Yes.
§ 63.5(f)(1) | Yes.
§ 63.5(f)(2) | Yes | Except that where § 63.9(b)(2) is referred to, the owner or operator need not comply.
§ 63.6(a) | Yes.
§ 63.6(b)(1) | No | The dates specified in § 63.481(b) apply, instead.
§ 63.6(b)(2) | No.
§ 63.6(b)(3) | No.
§ 63.6(b)(4) | No.
§ 63.6(b)(5) | No.
§ 63.6(b)(6) | No | [Reserved.].
§ 63.6(b)(7) | No.
§ 63.6(c)(1) | Yes | § 63.481 specifies the compliance date.
§ 63.6(c)(2) | No.
§ 63.6(c)(3) | No | [Reserved.].
§ 63.6(c)(4) | No | [Reserved.].
§ 63.6(c)(5) | Yes.
§ 63.6(d) | No | [Reserved.].
§ 63.6(e) | Yes | Except as otherwise specified for individual paragraphs. Does not apply to Group 2 emission points, unless they are included in an emissions average.ᵃ
§ 63.6(e)(1)(i) | No | This is addressed by § 63.480(j)(4).
§ 63.6(e)(1)(ii) | Yes.
§ 63.6(e)(1)(iii) | Yes.
§ 63.6(e)(2) | Yes.
§ 63.6(e)(3)(i) | Yes | For equipment leaks (subject to § 63.502), the start-up, shutdown, and malfunction plan requirement of § 63.6(e)(3)(i) is limited to control devices and is optional for other equipment. The start-up, shutdown, and malfunction plan may include written procedures that identify conditions that justify a delay of repair.
§ 63.6(e)(3)(i)(A) | No | This is addressed by § 63.480(j)(4).
§ 63.6(e)(3)(i)(B) | Yes.
§ 63.6(e)(3)(i)(C) | Yes.
§ 63.6(e)(3)(ii) | Yes.
§ 63.6(e)(3)(iii) | No | Recordkeeping and reporting are specified in § 63.506(b)(1).
§ 63.6(e)(3)(iv) | No | Recordkeeping and reporting are specified in § 63.506(b)(1).
§ 63.6(e)(3)(v) | Yes.
§ 63.6(e)(3)(vi) | Yes.
§ 63.6(e)(3)(vii) | Yes.
§ 63.6(e)(3)(vii) (A) | Yes.
§ 63.6(e)(3)(vii) (B) | Yes | Except the plan shall provide for operation in compliance with § 63.480(j)(4).
§ 63.6(e)(3)(vii) (C) | Yes.
§ 63.6(e)(3)(viii) | Yes.
§ 63.6(f)(1) | Yes.
§ 63.6(f)(2) | Yes | Except 63.7(c), as referred to in § 63.6(f)(2)(iii)(D) does not apply, and except that § 63.6(f)(2)(ii) does not apply to equipment leaks subject to § 63.502.
§ 63.6(f)(3) | Yes.
§ 63.6(g) | Yes.
§ 63.6(h) | No | Subpart U does not require opacity and visible emission standards.
§ 63.6(i)(1) | Yes.
§ 63.6(i)(2) | Yes.
§ 63.6(i)(3) | Yes.
§ 63.6(i)(4)(i)(A) | Yes.
§ 63.6(i)(4)(i)(B) | No | Dates are specified in § 63.481(e) and § 63.506(e)(3)(i).
§ 63.6(i)(4)(ii) | No.
§ 63.6(i)(5)-(14) | Yes.
§ 63.6(i)(15) | No | [Reserved.].
§ 63.6(i)(16) | Yes.
§ 63.6(j) | Yes.
§ 63.7(a)(1) | Yes.
§ 63.7(a)(2) | No. | § 63.506(e)(5) specifies the submittal dates of performance test results for all emission points except equipment leaks; for equipment leaks, compliance demonstration results are reported in the Periodic Reports.
§ 63.7(a)(3) | Yes.
§ 63.7(b) | No | § 63.504(a)(4) specifies notification requirements.
§ 63.7(c) | No | Except if the owner or operator chooses to submit an alternative nonopacity emission standard for approval under § 63.6(g).
§ 63.7(d) | Yes.
§ 63.7(e)(1) | Yes | Except that all performance tests shall be conducted at maximum representative operating conditions achievable at the time without disruption of operations or damage to equipment.
§ 63.7(e)(2) | Yes.
§ 63.7(e)(3) | No | Subpart U specifies requirements.
§ 63.7(e)(4) | Yes.
§ 63.7(f) | Yes | Except that § 63.144(b)(5)(iii)(A) & (B) shall apply for process wastewater. Also, since a site specific test plan is not required, the notification deadline in § 63.7(f)(2)(i) shall be 60 days prior to the performance test, and in § 63.7(f)(3) approval or disapproval of the alternative test method shall not be tied to the site specific test plan.
§ 63.7(g) | Yes | Except that the requirements in § 63.506(e)(5) shall apply instead of references to the Notification of Compliance Status report in 63.9(h). In addition, equipment leaks subject to § 63.502 are not required to conduct performance tests.
§ 63.7(h) | Yes | Except § 63.7(h)(4)(ii) is not applicable, since the site-specific test plans in § 63.7(c)(2) are not required.
§ 63.8(a)(1) | Yes.
§ 63.8(a)(2) | No.
§ 63.8(a)(3) | No | [Reserved.].
§ 63.8(a)(4) | Yes.
§ 63.8(b)(1) | Yes.
§ 63.8(b)(2) | No | Subpart U specifies locations to conduct monitoring.
§ 63.8(b)(3) | Yes.
§ 63.8(c)(1) | Yes.
§ 63.8(c)(1)(i) | Yes.
§ 63.8(c)(1)(ii) | No | For all emission points except equipment leaks, comply with § 63.506(b)(1)(i)(B); for equipment leaks, comply with § 63.181(g)(2)(iii).
§ 63.8(c)(1)(iii) | Yes.
§ 63.8(c)(2) | Yes.
§ 63.8(c)(3) | Yes.
§ 63.8(c)(4) | No | § 63.505 specifies monitoring frequency; not applicable to equipment leaks, because § 63.502 does not require continuous monitoring systems.
§ 63.8(c)(5)-(8) | No.
§ 63.8(d) | No.
§ 63.8(e) | No.
§ 63.8(f)(1)-(3) | Yes.
§ 63.8(f)(4)(i) | No | Timeframe for submitting request is specified in § 63.506(f) or (g); not applicable to equipment leaks, because § 63.502 (through reference to subpart H) specifies acceptable alternative methods.
§ 63.8(f)(4)(ii) | No | Contents of request are specified in § 63.506(f) or (g).
§ 63.8(f)(4)(iii) | No.
§ 63.8(f)(5)(i) | Yes.
§ 63.8(f)(5)(ii) | No.
§ 63.8(f)(5)(iii) | Yes.
§ 63.8(f)(6) | No | Subpart U does not require CEM's.
§ 63.8(g) | No | Data reduction procedures specified in § 63.506(d) and (h); not applicable to equipment leaks.
§ 63.9(a) | Yes.
§ 63.9(b) | No | Subpart U does not require an initial notification.
§ 63.9(c) | Yes.
§ 63.9(d) | Yes.
§ 63.9(e) | No | § 63.504(a)(4) specifies notification deadline.
§ 63.9(f) | No | Subpart U does not require opacity and visible emission standards.
§ 63.9(g) | No.
§ 63.9(h) | No | § 63.506(e)(5) specifies Notification of Compliance Status requirements.
§ 63.9(i) | Yes.
§ 63.9(j) | No.
§ 63.10(a) | Yes
§ 63.10(b)(1) | No | § 63.506(a) specifies record retention requirements.
§ 63.10(b)(2) | No | Subpart U specifies recordkeeping requirements.
§ 63.10(b)(3) | No | § 63.480(b) requires documentation of sources that are not affected sources.
§ 63.10(c) | No | § 63.506 specifies recordkeeping requirements.
§ 63.10(d)(1) | Yes
§ 63.10(d)(2) | No | § 63.506(e)(5) specifies performance test reporting requirements; not applicable to equipment leaks.
§ 63.10(d)(3) | No | Subpart U does not require opacity and visible emission standards.
§ 63.10(d)(4) | Yes
§ 63.10(d)(5)(i) | Yes | Except that reports required by § 63.10(d)(5)(i) shall be submitted at the same time as Periodic Reports specified in § 63.506(e)(6). The start-up, shutdown, and malfunction plan, and any records or reports of start-up, shutdown, and malfunction do not apply to Group 2 emission points unless they are included in an emissions average.
§ 63.10(d)(5)(ii) | No
§ 63.10(e) | No | § 63.506 specifies reporting requirements.
§ 63.10(f) | Yes
§ 63.11 | Yes | § 63.11(b) specifies requirements for flares used to comply with provisions of this subpart. § 63.504(c) contains the requirements to conduct compliance demonstrations for flares subject to this subpart.
§ 63.12 | Yes | Except that the authority of § 63.503(i) and the authority of § 63.177 (for equipment leaks) will not be delegated to States.
§§ 63.13-63.15 | Yes
ᵃ The plan and any records or reports of start-up, shutdown, and malfunction do not apply to Group 2 emission points unless they are included in an emissions average.

Table 2 to Subpart U of Part 63
[Applicability of Subparts F, G, & H of this Part to Subpart U affected sources]
Reference | Applies to Subpart U | Comment | Applicable section of Subpart U
Subpart F:
§ 63.100 | No
§ 63.101 | Yes | Several definitions from § 63.101 are referenced in § 63.482 | § 63.482.
§§ 63.102-63.103 | No
§§ 63.104-63.105 | Yes |  | §§ 63.501 and 63.502.
§§ 63.106-63.109 | No
Subpart G:
§ 63.110 | No
§ 63.111 | Yes | Several definitions from § 63.111 reference in § 63.482 | § 63.482.
§ 63.112 | No
§§ 63.113-63.118 | Yes | With the differences noted in § 63.485 (b) through § 63.485(k)
§§ 63.119-63.123 | Yes | With the differences noted in § 63.484(c) through 63.484(s) | 63.484.
§§ 63.124-63.125 | No | [Reserved.]
§§ 63.126-63.130 | No
§ 63.131 |  | [Reserved.]
§§ 63.133-63.147 | Yes | With the differences noted in § 63.501(a)(1) through (19) | § 63.501.
§§ 63.148-63.149 | Yes | With the differences noted in §§ 63.484(c) through (s) and 63.501(a)(1) through (23) | §§ 63.484 and 63.501.
§ 63.150(a) through (f) | No
§ 63.150(g)(1) and (2) | No
§ 63.150(g)(3) | Yes |  | § 63.503(g)(3).
§ 63.150(g)(4) | No
§ 63.150(g)(5) | Yes |  | § 63.503(g)(5).
§ 63.150(h)(1) and (2) | No
§ 63.150(h)(3) | Yes |  | § 63.503(h)(3).
§ 63.150(h)(4) | No
§ 63.150(h)(5) | Yes |  | § 63.503(h)(5).
§ 63.150(i) through (o) | No
§§ 63.151-63.152 | No
Subpart H:
§§ 63.160-63.182 | Yes | Subpart U affected sources shall comply with all requirements of subpart H of this part, with the differences noted in § 63.502 | § 63.502.

* * * * *

Table 5 to Subpart U of Part 63
[Known organic HAP emitted from the production of elastomer products]
Organic HAP/chemical name (CAS No.) | Elastomer product/subcategory: BR | Elastomer product/subcategory: EPI | Elastomer product/subcategory: EPR | Elastomer product/subcategory: HBR | Elastomer product/subcategory: HYP | Elastomer product/subcategory: NEO | Elastomer product/subcategory: NBL | Elastomer product/subcategory: NBR | Elastomer product/subcategory: PBR/SBRS | Elastomer product/subcategory: PSR | Elastomer product/subcategory: SBL | Elastomer product/subcategory: SBRE
Acrylonitrile (107131) |  |  |  |  |  |  | ✔ | ✔
1,3 Butadiene (106990) |  |  |  |  |  |  | ✔ | ✔ | ✔ |  | ✔ | ✔
Carbon Disulfide |  |  |  |  |  |  | ✔ | ✔ | ✔ |  | ✔ | ✔
Carbon Tetrachloride (56235) |  |  |  |  | ✔ |  |  |  |  |  |  |
Chlorobenzene (108907) |  |  |  |  | ✔ |  |  |  |  |  |  |
Chloroform (67663) |  |  |  |  | ✔ |  |  |  |  |  |  |
Chloroprene (126998) |  |  |  |  |  | ✔ |  |  |  |  |  |
Epichlorohydrin (106898) |  | ✔ |  |  |  |  |  |  |  |  |  |
Ethylbenzene (100414) | ✔ |  |  |  |  |  |  |  |  |  | ✔ |
Ethylene Dichloride (107062) |  |  |  |  |  |  |  |  |  | ✔ |  |
Ethylene Oxide (75218) |  | ✔ |  |  |  |  |  |  |  | ✔ |  |
Formaldehyde (50000) |  | ✔ |  |  |  |  |  |  |  | ✔ |  |
Hexane (110543) | ✔ |  | ✔ |  |  |  |  |  | ✔ |  |  |
Methanol (67561) | ✔ |  |  |  |  |  |  |  | ✔ |  |  |
Methyl Chloride (74873) | ✔ |  |  |  | ✔ |  |  |  |  |  |  |
Propylene Oxide (75569) |  | ✔ |  |  |  |  |  |  |  |  |  |
Styrene (100425) |  |  |  |  |  |  |  |  | ✔ |  | ✔ | ✔
Toluene (108883) |  | ✔ | ✔ |  |  | ✔ |  |  | ✔ |  |  |
Xylenes (1330207) | ✔ |  |  |  |  |  |  |  |  |  |  |
Xylene (m-) (108383) | ✔ |  |  |  |  |  |  |  |  |  |  |
Xylene (o-) (95476) | ✔ |  |  |  |  |  |  |  |  |  |  |
Xylene (p-) (106423) | ✔ |  |  |  |  |  |  |  |  |  |  |
CAS No. = Chemical Abstract Service Number.
BR = Butyl Rubber.
EPI = Epichlorohydrin Rubber.
EPR = Ethylene Propylene Rubber.
HBR = Halobutyl Rubber.
HYP = Hypalon ™.
NEO = Neoprene.
NBL = Nitrile Butadiene Latex.
NBR = Nitrile Butadiene Rubber.
PBR/SBRS = Polybutadiene and Styrene Butadiene Rubber by Solution.
PSR = Polysulfide Rubber.
SBL = Styrene Butadiene Latex.
SBRE = Styrene Butadiene Rubber by Emulsion.

Table 6 to Subpart U of Part 63
[Group 1 batch front-end process vents and aggregate batch vent streams—monitoring, recordkeeping, and reporting requirements]
Control/recovery device | Parameter to be monitored | Recordkeeping and reporting requirements for monitored parameters
Thermal incinerator | Firebox temperature ᵃ | 1. Continuous records as specified in § 63.491(e)(1).ᵇ
|  | 2. Record and report the average firebox temperature measured during the performance test—NCS.ᶜ
|  | 3. Record the batch cycle daily average firebox temperature as specified in § 63.491(e)(2).
|  | 4. Report all batch cycle daily average temperatures that are below the minimum operating value established in the NCS or operating permit and all instances when monitoring data are not collected—PR.d e
Catalytic incinerator | Temperature upstream and downstream of the catalyst bed | 1. Continuous records as specified in § 63.491(e)(1).ᵇ
|  | 2. Record and report the average upstream and downstream temperatures and the average temperature difference across the catalyst bed measured during the performance test—NCS.ᶜ
|  | 3. Record the batch cycle daily average upstream temperature and temperature difference across catalyst bed as specified in § 63.491(e)(2).
|  | 4. Report all batch cycle daily average upstream temperatures that are below the minimum upstream value established in the NCS or operating permit—PR.d e
|  | 5. Reporting all batch cycle daily average temperature differences across the catalyst bed that are below the minimum difference established in the NCS or operating permit—PR.d e
|  | 6. Report all instances when monitoring data are not collected.
Boiler or process heater with a design heat input capacity less than 44 megawatts and where the batch front—end process vents or aggregate batch vent streams are “not” introduced with or used as the primary fuel | Firebox temperature ᵃ | 1. Continuous records as specified in § 63.491(e)(1).ᵇ
|  | 2. Record and report the average firebox temperature measured during the performance test—NCS.ᶜ
|  | 3. Record the batch cycle daily average firebox temperature as specified in § 63.491(e)(2).ᵈ
|  | 4. Report all batch cycle daily average temperatures that are below the minimum operating value established in the NCS or operating permit and all instances when monitoring data are not collected—PR.d e
Flare | Presence of a flame at the pilot light | 1. Hourly records of whether the monitor was continuously operating during light batch emission episodes selected for control and whether a flame was continuously present at the pilot light during each hour.
|  | 2. Record and report the presence of a flame at the pilot light over the full period of the compliance determination—NCS.ᶜ
|  | 3. Record the times and durations of all periods during batch emission episodes when all flames at the pilot light of a flare are absent or the monitor is not operating.
|  | 4. Report the times and durations of all periods during batch emission episodes selected for control when all flames at the pilot light of a flare are absent—PR.ᵈ
Scrubber for halogenated batch front-end process vents or aggregate batch vent streams (Note: Controlled by a combustion device other than a flare) | a. pH of scrubber effluent, and | 1. Continuous records as specified in § 63.491(e)(1).ᵇ 2. Record and report the average pH of the scrubber effluent measured during the performance test—NCS.ᶜ
|  | 3. Record the batch cycle daily average pH of the scrubber effluent as specified in § 63.491(e)(2).
|  | 4. Report all batch cycle daily average pH values of the scrubber effluent that are below the minimum operating value established in the NCS or operating permit and all instances when insufficient monitoring data are collected—PR.d e
| b. Scrubber liquid and gas flow rates (§ 63.489(b)(4)(ii)) | 1. Records as specified in § 63.491(e)(1).ᵇ 2. Record and report the scrubber liquid/gas ratio averaged over the full period of the performance test—NCS.ᶜ
|  | 3. Record the batch cycle daily average scrubber liquid/gas ratio as specified in § 63.491(e)(2).
|  | 4. Report all batch cycle daily average scrubber liquid/gas ratios that are below the minimum value established in the NCS or operating permit and all instances when insufficient monitoring data are collected—PR.d e
Absorber \f\ | a. Exit temperature of the absorbing liquid, and | 1. Continuous records as specified in § 63.491(e)(1).ᵇ
|  | 2. Record and report the average exit temperature of the absorbing liquid measured during the performance test—NCS.\c\
|  | 3. Record the batch cycle daily average exit temperature of the absorbing liquid as specified in § 63.491(e)(2) for each batch cycle.
|  | 4. Report all the batch cycle daily average exit temperatures of the absorbing liquid that are above the maximum operating temperature established in the NCS or operating permit and all instances when monitoring data are not collected—PR.ᵈ,ᵉ
| b. Exit specific gravity of the absorbing liquid | 1. Continuous records as specified in § 63.491(e)(1).ᵇ
|  | 2. Record and report the average exit specific gravity measured during the performance test—NCS.
|  | 3. Record the batch cycle daily average exit specific gravity as specified in § 63.491(e)(2).
|  | 4. Report all batch cycle daily average exit specific gravity values that are below the minimum operating value established in the NCS or operating permit and all instances when monitoring data are not collected—PR.d e
Condenser \f\ | Exit (product side) temperature | 1. Continuous records as specified in § 63.491(e)(1)ᵇ
|  | 2. Record and report the average exit temperature measured during the performance test—NCS.
|  | 3. Record the batch cycle daily average exit temperature as specified in § 63.491(e)(2).
|  | 4. Report all batch cycle daily average exit temperatures that are above the maximum operating value established in the NCS or operating permit and all instances when monitoring data are not collected—PR.d e
Carbon adsorber ᶠ | a. Total regeneration steam flow or nitrogen flow, or pressure gauge or absolute) during carbon bed regeneration cycle(s), and | 1. Record of total regeneration steam flow or nitrogen flow, or pressure for each carbon bed regeneration cycle.
|  | 2. Record and report the total regeneration steam flow or nitrogen flow, or pressure during each carbon bed regeneration cycle during the performance test—NCS.ᶜ
|  | 3. Report all carbon bed regeneration cycles when the total regeneration steam flow or nitrogen flow, or pressure is above the maximum value established in the NCS or operating permit—PR.d e
| b. Temperature of the carbon bed after regeneration and within 15 minutes of completing any cooling cycle(s) | 1. Record the temperature of the carbon bed after each regeneration and within 15 minutes of completing any cooling cycle(s).
|  | 2. Record and report the temperature of the carbon bed after each regeneration and within 15 minutes of completing any cooling cycle(s)measured during the performance test—NCS.ᶜ
|  | 3. Report all carbon bed regeneration cycles when the temperature of the carbon bed after regeneration, or within 15 minutes of completing any cooling cycle(s), is above the maximum value established in the NCS or operating permit—PR.d e
All control devices | a. Diversion to the atmosphere from the control device or | 1. Hourly records of whether the flow indicator was operating during batch emission episodes selected for control and whether a diversion was detected at any time during the hour, as specified in § 63.491(e)(3).
|  | 2. Record and report the times of all periods during batch emission episodes selected for control when emissions are diverted through a bypass line, or the flow indicator is not operating—PR.ᵈ
| b. Monthly inspections of sealed valves | 1. Records that monthly inspections were performed as specified in § 63.491(e)(4)(i). 2. Record and report all monthly inspections that show that valves are in the diverting position or that a seal has been broken—PR.ᵈ
Absorber, condenser, and carbon adsorber (as an alternative to the above) | Concentration level or reading indicated by an organic monitoring device at the outlet of the recovery device | 1. Continuous records as specified in § 63.491(e)(1).ᵇ 2. Record and report and average batch vent concentration level or reading measured during the performance test—NCS.
|  | 3. Record the batch cycle daily average concentration level or reading as specified in § 63.491(e)(2).
|  | 4. Report all batch cycle daily average concentration levels or readings that are above the maximum values established in the NCS or operating permit and all instances when monitoring data are not collected—PR.d e
ᵃ Monitor may be installed in the firebox or in the duct work immediately downstream of the firebox before any substantial heat exchange is encountered.
ᵇ “Continuous records” is defined in § 63.111.
ᶜ NCS = Notification of Compliance Status described in § 63.506(e)(5).
ᵈ PR = Periodic Reports described in § 63.506(e)(6).
ᵉ The periodic reports shall include the duration of periods when monitoring data are not collected as specified in § 63.506(e)(6)(iii)(C).
ᶠ Alternatively, these devices may comply with the organic monitoring device provisions listed at the end of this table.

* * * * *

Table 9 to Subpart U of Part 63
[Routine reports required by this subpart]
Reference | Description of report | Due Date
§ 63.506(b) and subpart A | Refer to § 63.506(b), Table 1 of this subpart, and to subpart A | Refer to subpart A.
§ 63.506(e)(3) | Precompliance Report ᵃ | 1. Existing affected sources: December 19, 2000.
|  | 2. New affected sources: with the application for approval of construction or reconstruction.
§ 63.506(e)(4) | Emissions Averaging Plan | September 19, 2000.
§ 63.506(e)(4)(iv) | Updates to Emissions Averaging Plan | 120 days prior to making the change necessitating the update.
§ 63.506(e)(5) | Notification of Compliance Status ᵇ | Within 150 days after the compliance date.
§ 63.506(e)(6) | Periodic reports | Semiannually, no later than 60 days after the end of each 6-month period. See § 63.506(e)(6)(i) for the due date for this report.
§ 63.506(e)(6)(xi) | Quarterly for reports Emissions Averaging | No later than 60 days after the end of each quarter. First report is due with the Notification of Compliance Status.
§ 63.506(e)(6)(xii) | Quarterly reports upon request of the Administrator | No later than 60 days after the end of each quarter.
§ 63.506(e)(7)(i) | Storage Vessels Notification of Inspection | At least 30 days prior to the refilling of each storage vessel or the inspection of each storage vessel.
§ 63.506(e)(7)(ii) | Requests for Approval of a Nominal Control Efficiency for Use in Emissions Averaging | Initial submittal is due with the Emissions Averaging Plan; later submittals are made at the discretion of the owner or operator as specified in § 63.506(e)(7)(ii)(B).
§ 63.506(e)(7)(iii) | Notification of Change in the Primary Product | For notification under § 63.480(f)(3)(ii)—notification submittal date at the discretion of the owner or operator.ᶜ
|  | For notification under § 63.480(f)(4)(ii)—within 6 months of making the determination.
ᵃ There may be two versions of this report due at different times; one for equipment subject to § 63.502 and one for other emission points subject to this subpart.
ᵇ There will be two versions of this report due at different times; one for equipment subject to § 63.502 and one for other emission points subject to this subpart.
ᶜ Note that the EPPU remains subject to this subpart until the notification under § 63.480(f)(3)(i) is made.

Subpart JJJ—National Emission Standards for Hazardous Air Pollutant Emissions: Group IV Polymers and Resins

10. Section 63.1310 is amended by revising paragraphs (i)(1)(i) introductory text and (i)(2)(ii) and (iii) to read as follows:

§ 63.1310 Applicability and designation of affected sources.

* * * * *

(i) * * *

(1) * * *

(i) If a group of one or more TPPUs that produce the same primary product is added to a plant site, the added group of one or more TPPUs and associated equipment, as listed in paragraph (a)(4) of this section, shall be a new affected source and shall comply with the requirements for a new affected source in this subpart upon initial start-up or by June 19, 2000, whichever is later, except that new affected sources whose primary product, as determined using the procedures specified in paragraph (f) of this section, is poly(ethylene terephthalate) (PET) shall be in compliance with § 63.1331 upon initial start-up or February 27, 2001, whichever is later, if the added group of one or more TPPUs meets the criteria in either paragraph (i)(1)(i)(A) or (i)(1)(i)(B) of this section, and the criteria in either paragraph (i)(1)(i)(C) or (i)(1)(i)(D) of this section are met.

* * * * *

(2) * * *

(ii) If any components are replaced at an existing affected source such that the criteria specified in paragraphs (i)(2)(i)(A) through (i)(2)(i)(B) of this section are not met, and that replacement of components creates one or more Group 1 emission points (i.e., either newly created Group 1 emission points or emission points that change group status from Group 2 to Group 1) or causes any other emission point to be added (i.e., Group 2 emission points, equipment leak components subject to § 63.1331, continuous process vents subject to §§ 63.1316 through 63.1320, and heat exchange systems subject to § 63.1328), the resulting emission point(s) shall be subject to the applicable requirements for an existing affected source. The resulting emission points shall be in compliance by 120 days after the date of initial start-up or by the appropriate compliance date specified in § 63.1311 (i.e., February 27, 1998 for most equipment leak components subject to § 63.1331, and June 19, 2001 for most emission points other than equipment leaks), whichever is later.

(iii) If an addition or process change (not including a process change that solely replaces components) is made to an existing affected source that creates one or more Group 1 emission points (i.e., either newly created Group 1 emission points or emission points that change group status from Group 2 to Group 1) or causes any other emission point to be added (i.e., Group 2 emission points, equipment leak components subject to § 63.1331, continuous process vents subject to §§ 63.1316 through 63.1320, and heat exchange systems subject to § 63.1328), the resulting emission point(s) shall be subject to the applicable requirements for an existing affected source. The resulting emission point(s) shall be in compliance by 120 days after the date of initial start-up or by the appropriate compliance date specified in § 63.1311 (i.e., February 27, 1998 for most equipment leak components subject to § 63.1331, and June 19, 2001 for most emission points other than equipment leaks), whichever is later.

* * * * *

11. Section 63.1311 is amended by revising paragraph (b) to read as follows:

§ 63.1311 Compliance dates and relationship of this subpart to existing applicable rules.

* * * * *

(b) New affected sources that commence construction or reconstruction after March 29, 1995 shall be in compliance with this subpart upon initial start-up or by June 19, 2000, whichever is later, except that new affected sources whose primary product, as determined using the procedures specified in § 63.1310(f), is PET shall be in compliance with § 63.1331 upon initial start-up or August 27, 2001, whichever is later.

* * * * *

12. Section 63.1312(b) is amended by revising the definitions for the terms “Group 1 wastewater stream” and “Reconstruction.”

§ 63.1312 Definitions.

* * * * *

(b) * * *

Group 1 wastewater stream means a wastewater stream consisting of process wastewater from an existing or new affected source that meets the criteria for Group 1 status in § 63.132(c) and/or that meets the criteria for Group 1 status in § 63.132(d), with the exceptions listed in § 63.1330(b)(8) for the purposes of this subpart (i.e., for organic HAP as defined in this section).

* * * * *

Reconstruction means the replacement of components of an affected source or of a previously unaffected stationary source that becomes an affected source as a result of the replacement, to such an extent that:

(1) The fixed capital cost of the new components exceeds 50 percent of the fixed capital cost that would be required to construct a comparable new source; and

(2) It is technologically and economically feasible for the reconstructed source to meet the provisions of this subpart.

* * * * *

13. Section 63.1315 is amended by revising paragraphs (a)(9) and (d) to read as follows:

§ 63.1315 Continuous process vents provisions.

* * * * *

(a) * * *

(9) When § 63.114(e) or § 63.117(f) specifies that an owner or operator shall submit the information required in § 63.152(b) in order to establish the parameter monitoring range, the owner or operator of an affected source shall comply with the provisions of § 63.1335(e)(5) for purposes of reporting information related to establishment of the parameter monitoring level for purposes of this subpart. Further, the term “level” shall apply when the term “range” is used in §§ 63.114, 63.117, and 63.118.

* * * * *

(d) Affected sources producing PET or polystyrene using a continuous process are subject to the emissions control provisions of § 63.1316, the monitoring provisions of § 63.1317, the testing and compliance demonstration provisions of § 63.1318, the recordkeeping provisions of § 63.1319, and the reporting provisions of § 63.1320. However, in some instances as specified in § 63.1316, select continuous process vents present at affected sources producing PET or polystyrene using a continuous process are subject to the provisions of this section.

* * * * *

14. Section 63.1316 is amended by revising paragraph (b)(1)(i)(B) to read as follows:

§ 63.1316 PET and polystyrene affected sources—emissions control provisions.

* * * * *

(b) * * *

(1) * * *

(i) * * *

(B) As specified in § 63.1318(d), the owner or operator shall maintain the daily average outlet gas stream temperature from each final condenser in a material recovery section at a temperature of +3°C (+37°F) or less (i.e., colder); or

* * * * *

15. Section 63.1318 is amended by revising paragraph (a) to read as follows:

§ 63.1318 PET and polystyrene affected sources—testing and compliance demonstration provisions.

(a) Except as specified in paragraphs (b) through (d) of this section, continuous process vents using a control or recovery device to comply with § 63.1316 shall comply with the applicable testing and compliance provisions for continuous process vents specified in § 63.1315(a) except that, for purposes of this paragraph (a), references to group determinations (i.e., total resource effectiveness) do not apply and owners or operators are not required to comply with § 63.113.

* * * * *

16. Section 63.1319 is amended in paragraph (a) by revising the reference to “§ 63.1315” to read “§ 63.1315(a).”

17. Section 63.1320 is amended in paragraph (a) by revising the reference to “§ 63.1315” to read “§ 63.1315(a).” and by revising paragraph (b)(3) to read as follows:

§ 63.1320 PET and polystyrene affected sources—reporting provisions.

* * * * *

(b) * * *

(3) Whenever a process change, as defined in § 63.115(e), is made that causes emissions from continuous process vents in the collection of material recovery sections (i.e., methanol recovery) within the affected source to be greater than 0.12 kg organic HAP per Mg of product, the owner or operator shall submit a report within 180 days after the process change is made or the information regarding the process change is known to the owner or operator. This report may be included in the next Periodic Report. The report shall include the information specified in § 63.1319(b)(1) and a description of the process change.

* * * * *

18. Section 63.1322 is amended in paragraphs (f)(1)(ii) and (g)(1)(ii) by revising the references to “§ 63.1335(e)(5)(iv)” to read “§ 63.1335(e)(5)(viii).”

19. Section 63.1323 is amended in paragraph (b)(6)(i)(C) by revising the reference to “§ 63.506(e)(3)” to read “§ 63.1335(e)(3),” and by revising paragraph (h)(1) introductory text to read as follows:

§ 63.1323 Batch process vents—methods and procedures for group determination.

* * * * *

(h) * * *

(1) The concentration of each organic compound containing halogen atoms (ppmv, by compound) for each batch emission episode shall be determined after the last recovery device (if any recovery devices are present), based on any one of the following procedures:

* * * * *

20. Section 63.1324 is amended by revising paragraph (f)(1)(ii) to read as follows:

§ 63.1324 Batch process vents—monitoring equipment.

* * * * *

(f) * * *

(1) * * *

(ii) For aggregate batch vent streams using a control device to comply with § 63.1322(b)(2), the established level shall reflect the emission reduction requirement of either 90 percent or 20 ppmv specified in § 63.1322(b)(2).

* * * * *

21. Section 63.1327 is amended in paragraph (b) by revising the reference to “§ 63.480(i)(2)(ii)” to read “§ 63.1310(i)(2)(ii).”

22. Section 63.1330 is amended as follows:

a. By revising paragraph (a);

b. By revising paragraph (b)(8)(i);

c. By revising paragraph (b)(8)(ii);

d. By adding paragraph (d); and

e. By adding paragraph (e).

The revisions and additions read as follows:

§ 63.1330 Wastewater provisions.

* * * * *

(a) Except as specified in paragraphs (d) and (e) of this section, the owner or operator of each affected source shall comply with paragraphs (b) and (c) of this section.

(b) * * *

(8) * * *

(i) When §§ 63.132 through 63.149 refer to table 8 compounds, the owner or operator is only required to consider 1,3-butadiene for purposes of this subpart.

(ii) When §§ 63.132 through 63.149 refer to table 9 compounds, the owner or operator is only required to consider compounds that meet the definition of organic HAP in § 63.1312 and that are listed on table 9 of 40 CFR part 63, subpart G, for the purposes of this subpart, except for ethylene glycol which need not be considered.

* * * * *

(d) The provisions of paragraph (b) of this section do not apply to each affected source producing ASA/AMSAN.

(e) The provisions of paragraphs (b) and (c) of this section do not apply to each affected source producing polystyrene using either a continuous or batch process.

23. Section 63.1335 is amended as follows:

a. By revising paragraph (e)(5)(i) introductory text;

b. By revising (e)(7)(ii)(A); and

c. By revising (e)(7)(ii)(B).

The revisions read as follows:

§ 63.1335 General recordkeeping and reporting provisions.

* * * * *

(e) * * *

(5) * * *

(i) The results of any emission point group determinations, process section applicability determinations, performance tests, inspections, any other information used to demonstrate compliance, values of monitored parameters established during performance tests, and any other information required to be included in the Notification of Compliance Status under §§ 63.1311(m), 63.122, and 63.1314 for storage vessels, § 63.117 for continuous process vents, § 63.146 for process wastewater, §§ 63.1316 through 63.1320 for continuous process vents subject to § 63.1316, § 63.1327 for batch process vents, § 63.1329 for process contact cooling towers, and § 63.1332 for emission points included in an emissions average. In addition, the owner or operator of an affected source shall comply with paragraphs (e)(5)(i)(A) and (e)(5)(i)(B) of this section.

* * * * *

(7) * * *

(i) * * *

(ii) * * *

(A) If use of a nominal control efficiency is part of the initial Emissions Averaging Plan described in paragraph (e)(4)(ii) of this section, the information shall be submitted with the Emissions Averaging Plan.

(B) If an owner or operator elects to use a nominal control efficiency after submittal of the initial Emissions Averaging Plan as described in paragraph (e)(4)(ii) of this section, the information shall be submitted at the discretion of the owner or operator.

* * * * *

24. Revising Tables 1, 6, 7, and 9 to Subpart JJJ of Part 63, to read as follows:

Table 1 to Subpart JJJ of Part 63
[Applicability of general provisions to subpart JJJ affected sources]
Reference | Applies to Subpart JJJ | Explanation
§ 63.1(a)(1) | Yes | § 63.1312 specifies definitions in addition to or that supersede definitions in § 63.2.
§ 63.1(a)(2) | Yes
§ 63.1(a)(3) | Yes | § 63.1311(g) through (l) and § 63.160(b) identify those standards which may apply in addition to the requirements of subparts JJJ and H of this part, and specify how compliance shall be achieved.
§ 63.1(a)(4) | Yes | Subpart JJJ (this table) specifies the applicability of each paragraph in subpart A to subpart JJJ.
§ 63.1(a)(5) | No | [Reserved.].
§ 63.1(a)(6)-(8) | Yes
§ 63.1(a)(9) | No | [Reserved.].
§ 63.1(a)(10) | Yes
§ 63.1(a)(11) | Yes
§ 63.1(a)(12)-(14) | Yes
§ 63.1(b)(1) | No | § 63.1310(a) contains specific applicability criteria.
§ 63.1(b)(2) | Yes
§ 63.1(b)(3) | No | § 63.1310(b) provides documentation requirements for TPPUs not considered affected sources.
§ 63.1(c)(1) | Yes | Subpart JJJ (this table) specifies the applicability of each paragraph in subpart A to subpart JJJ.
§ 63.1(c)(2) | No | Area sources are not subject to subpart JJJ.
§ 63.1(c)(3) | No | [Reserved.].
§ 63.1(c)(4) | Yes
§ 63.1(c)(5) | Yes | Except that affected sources are not required to submit notifications that are not required by subpart JJJ.
§ 63.1(d) | No | [Reserved.].
§ 63.1(e) | Yes
§ 63.2 | Yes | § 63.1312 specifies those subpart A definitions that apply to subpart JJJ.
§ 63.3 | Yes
§ 63.4(a)(1)-(3) | Yes
§ 63.4(a)(4) | No | [Reserved.].
§ 63.4(a)(5) | Yes
§ 63.4(b) | Yes
§ 63.4(c) | Yes
§ 63.5(a)(1) | Yes | Except the terms “source” and “stationary source” should be interpreted as having the same meaning as “affected source.”
§ 63.5(a)(2) | Yes
§ 63.5(b)(1) | Yes | Except § 63.1310(i) defines when construction or reconstruction is subject to new source standards.
§ 63.5(b)(2) | No | [Reserved.].
§ 63.5(b)(3) | Yes
§ 63.5(b)(4) | Yes | Except that the Initial Notification and § 63.9(b) requirements do not apply.
§ 63.5(b)(5) | Yes
§ 63.5(b)(6) | Yes | Except that § 63.1310(i) defines when construction or reconstruction is subject to new source standards.
§ 63.5(c) | No | [Reserved.]
§ 63.5(d)(1)(i) | Yes | Except that the references to the Initial Notification and § 63.9(b)(5) do not apply.
§ 63.5(d)(1)(ii) | Yes | Except that § 63.5(d)(1)(ii)(H) does not apply.
§ 63.5(d)(1)(iii) | No | §§ 63.1335(e)(5) and 63.1331(a)(4) specify Notification of Compliance Status requirements.
§ 63.5(d)(2) | No
§ 63.5(d)(3) | Yes | Except § 63.5(d)(3)(ii) does not apply, and equipment leaks subject to § 63.1331 are exempt.
§ 63.5(d)(4) | Yes
§ 63.5(e) | Yes
§ 63.5(f)(1) | Yes
§ 63.5(f)(2) | Yes | Except that where § 63.9(b)(2) is referred to, the owner or operator need not comply.
§ 63.6(a) | Yes
§ 63.6(b)(1) | No | The dates specified in § 63.1311(b) apply, instead.
§ 63.6(b)(2) | No
§ 63.6(b)(3) | No
§ 63.6(b)(4) | No
§ 63.6(b)(5) | No
§ 63.6(b)(6) | No | [Reserved.].
§ 63.6(b)(7) | No
§ 63.6(c)(1) | Yes | Except that § 63.1311 specifies the compliance date.
§ 63.6(c)(2) | No
§ 63.6(c)(3) | No | [Reserved.].
§ 63.6(c)(4) | No | [Reserved.].
§ 63.6(c)(5) | Yes
§ 63.6(d) | No | [Reserved.].
§ 63.6(e) | Yes | Except as otherwise specified for individual paragraphs. Does not apply to Group 2 emission points, unless they are included in an emissions average.ᵃ
§ 63.6(e)(1)(i) | No | This is addressed by § 63.1310(j)(4).
§ 63.6(e)(1)(ii) | Yes
§ 63.6(e)(1)(iii) | Yes
§ 63.6(e)(2) | Yes
§ 63.6(e)(3)(i) | Yes | For equipment leaks (subject to § 63.1331), the start-up, shutdown, and malfunction plan requirement of § 63.6(e)(3)(i) is limited to control devices and is optional for other equipment. The start-up, shutdown, malfunction plan may include written procedures that identify conditions that justify a delay of repair.
§ 63.6(e)(3)(i)(A) | No | This is addressed by § 63.1310(j)(4).
§ 63.6(e)(3)(i)(B) | Yes
§ 63.6(e)(3)(i)(C) | Yes
§ 63.6(e)(3)(ii) | Yes
§ 63.6(e)(3)(iii) | No | Recordkeeping and reporting are specified in § 63.1335(b)(1).
§ 63.6(e)(3)(iv) | No | Recordkeeping and reporting are specified in § 63.1335(b)(1).
§ 63.6(e)(3)(v) | Yes
§ 63.6(e)(3)(vi) | Yes
§ 63.6(e)(3)(vii) | Yes
§ 63.6(e)(3)(vii)(A) | Yes
§ 63.6(e)(3)(vii)(B) | Yes | Except the plan shall provide for operation in (B) compliance with § 63.1310(j)(4).
§ 63.6(e)(3)(vii)(C) | Yes
§ 63.6(e)(3)(viii) | Yes
§ 63.6(f)(1) | Yes
§ 63.6(f)(2) | Yes | Except § 63.7(c), as referred to in § 63.6(f)(2)(iii)(D), does not apply, and except that § 63.6(f)(2)(ii) does not apply to equipment leaks subject to § 63.1331.
§ 63.6(f)(3) | Yes
§ 63.6(g) | Yes
§ 63.6(h) | No | Subpart JJJ does not require opacity and visible emission standards.
§ 63.6(i)(1) | Yes
§ 63.6(i)(2) | Yes
§ 63.6(i)(3) | Yes
§ 63.6(i)(4)(i)(A) | Yes
§ 63.6(i)(4)(i)(B) | No | Dates are specified in § 63.1311(e) and § 63.1335(e)(3)(i).
§ 63.6(i)(4)(ii) | No
§ 63.6(i)(5)-(14) | Yes
§ 63.6(i)(15) | No | [Reserved.].
§ 63.6(i)(16) | Yes
§ 63.6(j) | Yes
§ 63.7(a)(1) | Yes
§ 63.7(a)(2) | No | § 63.1335(e)(5) specifies the submittal dates of performance test results for all emission points except equipment leaks; for equipment leaks, compliance demonstration results are reported in the Periodic Reports.
§ 63.7(a)(3) | Yes
§ 63.7(b) | No | § 63.1333(a)(4) specifies notification requirements.
§ 63.7(c) | No
§ 63.7(d) | Yes
§ 63.7(e)(1) | Yes | Except that all performance tests shall be conducted at maximum representative operating conditions achievable at the time without disruption of operations or damage to equipment.
§ 63.7(e)(2) | Yes
§ 63.7(e)(3) | No | Subpart JJJ specifies requirements.
§ 63.7(e)(4) | Yes
§ 63.7(f) | Yes | Except that § 63.144(b)(5)(iii)(A) and (B) shall apply for process wastewater. Also, because a site specific test plan is not required, the notification deadline in § 63.7(f)(2)(i) shall be 60 days prior to the performance test, and in § 63.7(f)(3), approval or disapproval of the alternative test method shall not be tied to the site specific test plan.
§ 63.7(g) | Yes | Except that the requirements in § 63.1335(e)(5) shall apply instead of references to the Notification of Compliance Status report in § 63.9(h). In addition, equipment leaks subject to § 63.1331 are not required to conduct performance tests.
§ 63.7(h) | Yes | Except § 63.7(h)(4)(ii) is not applicable, because the site-specific test plans in § 63.7(c)(2) are not required.
§ 63.8(a)(1) | Yes
§ 63.8(a)(2) | No
§ 63.8(a)(3) | No | [Reserved.].
§ 63.8(a)(4) | Yes
§ 63.8(b)(1) | Yes
§ 63.8(b)(2) | No | Subpart JJJ specifies locations to conduct monitoring.
§ 63.8(b)(3) | Yes
§ 63.8(c)(1) | Yes
§ 63.8(c)(1)(i) | Yes
§ 63.8(c)(1)(ii) | No | For all emission points except equipment leaks, comply with § 63.1335(b)(1)(i)(B); for equipment leaks, comply with § 63.181(g)(2)(iii).
§ 63.8(c)(1)(iii) | Yes
§ 63.8(c)(2) | Yes
§ 63.8(c)(3) | Yes
§ 63.8(c)(4) | No | § 63.1334 specifies monitoring frequency; not applicable to equipment leaks because § 63.1331 does not require continuous monitoring systems.
§ 63.8(c)(5)-(8) | No.
§ 63.8(d) | No.
§ 63.8(e) | No.
§ 63.8(f)(1)-(3) | Yes.
§ 63.8(f)(4)(i) | No | Timeframe for submitting request is specified in § 63.1335(f) or (g); not applicable to equipment leaks because § 63.1331 (through reference to subpart H) specifies acceptable alternative methods.
§ 63.8(f)(4)(ii) | No | Contents of requests are specified in § 63.1335(f) or (g).
§ 63.8(f)(4)(iii) | No.
§ 63.8(f)(5)(i) | Yes.
§ 63.8(f)(5)(ii) | No.
§ 63.8(f)(5)(iii) | Yes.
§ 63.8(f)(6) | No | Subpart JJJ does not require continuous emission monitors.
§ 63.8(g) | No | Data reduction procedures specified in § 63.1335(d) and (h); not applicable to equipment leaks.
§ 63.9(a) | Yes.
§ 63.9(b) | No | Subpart JJJ does not require an initial notification.
§ 63.9(c) | Yes.
§ 63.9(d) | Yes.
§ 63.9(e) | No | § 63.1333(a)(4) specifies notification deadline.
§ 63.9(f) | No | Subpart JJJ does not require opacity and visible emission standards.
§ 63.9(g) | No.
§ 63.9(h) | No | § 63.1335(e)(5) specifies Notification of Compliance Status requirements.
§ 63.9(i) | Yes.
§ 63.9(j) | No.
§ 63.10(a) | Yes.
§ 63.10(b)(1) | No | § 63.1335(a) specifies record retention requirements.
§ 63.10(b)(2) | No | Subpart JJJ specifies recordkeeping requirements.
§ 63.10(b)(3) | No | § 63.1310(b) requires documentation of sources that are not affected sources.
§ 63.10(c) | No | § 63.1335 specifies recordkeeping requirements.
§ 63.10(d)(1) | Yes.
§ 63.10(d)(2) | No | § 63.1335(e) specifies performance test reporting requirements; not applicable to equipment leaks.
§ 63.10(d)(3) | No | Subpart JJJ does not require opacity and visible emission standards.
§ 63.10(d)(4) | Yes.
§ 63.10(d)(5)(i) | Yes | Except that reports required by § 63.10(d)(5)(i) may be submitted at the same time as Periodic Reports specified in § 63.1335(e)(6). The start-up, shutdown, and malfunction plan, and any records or reports of start-up, shutdown, and malfunction do not apply to Group 2 emission points unless they are included in an emissions average.
§ 63.10(d)(5)(ii) | No.
§ 63.10(e) | No | § 63.1335 specifies reporting requirements.
§ 63.10(f) | Yes.
§ 63.11 | Yes | § 63.11(b) specifies requirements for flares used to comply with provisions of this subpart. § 63.1333(e) contains the requirements to conduct compliance demonstrations for flares subject to this subpart.
§ 63.12 | Yes | Except that the authority of § 63.1332(i) and the authority of § 63.177 (for equipment leaks) shall not be delegated to States.
§§ 63.13-63.15 | Yes.
ᵃ The plan and any records or reports of start-up, shutdown, and malfunction do not apply to Group 2 emission points unless they are included in an emissions average.

* * * * *

Table 6 to Subpart JJJ of Part 63
[Known organic HAP emitted from the production of thermoplastic products]
Thermoplastic product/Subcategory | Organic HAP/chemical name (CAS No.): Acet-aldehyde (75-07-0) | Organic HAP/chemical name (CAS No.): Acrylo-nitrile (107-13-1) | Organic HAP/chemical name (CAS No.): 1,3 Buta-diene (106-99-0) | Organic HAP/chemical name (CAS No.): 1,4-Dioxane (123-91-1) | Organic HAP/chemical name (CAS No.): Ethylene Glycol (107-21-1) | Organic HAP/chemical name (CAS No.): Methanol (67-56-1) | Organic HAP/chemical name (CAS No.): Methyl metha-crylate (80-62-6) | Organic HAP/chemical name (CAS No.): Styrene (100-42-5)
ABS latex |  | ✔ | ✔ |  |  |  |  | ✔
ABS using a batch emulsion process |  | ✔ | ✔ |  |  |  |  | ✔
ABS using a batch suspension process |  | ✔ | ✔ |  |  |  |  | ✔
ABS using a continuous emulsion process |  | ✔ | ✔ |  |  |  |  | ✔
ABS using a continuous mass process |  | ✔ | ✔ |  |  |  |  | ✔
ASA/AMSAN |  | ✔ |  |  |  |  |  | ✔
EPS |  |  |  |  |  |  |  | ✔
MABS |  | ✔ | ✔ |  |  |  |  | ✔
MBS |  |  | ✔ |  |  |  | ✔ | ✔
Nitrile resin |  | ✔ |  |  |  |
PET using a batch dimethyl terephthalate process | ✔ |  |  | ✔ | ✔ | ✔
PET using a batch terephthalic acid process | ✔ |  |  | ✔ | ✔
PET using a continuous dimethyl terephthalate process | ✔ |  |  | ✔ | ✔ | ✔
PET using a continuous terephthalic acid process | ✔ |  |  | ✔ | ✔
PET using a continuous terephthalic acid high viscosity multiple end finisher process | ✔ |  |  | ✔ | ✔
Polystyrene resin using a batch process |  |  |  |  |  |  |  | ✔
Polystyrene resin using a continuous process |  |  |  |  |  |  |  | ✔
SAN using a batch process |  | ✔ |  |  |  |  |  | ✔
SAN using a continuous process |  | ✔ |  |  |  |  |  | ✔
CAS No. = Chemical Abstract Service Number.
ABS = Acrylonitrile butadiene styrene resin.
ASA/AMSAN = Acrylonitrile styrene resin/alpha methyl styrene acrylonitrile resin.
EPS = expandable polystyrene resin.
MABS = methyl methacrylate acrylonitrile butadiene styrene resin.
PET = poly(ethylene terephthalate) resin.
SAN = styrene acrylonitrile resin.
MBS = methyl methacrylate butadiene styrene resin.

Table 7 of Subpart JJJ of Part 63
[Group 1 batch process vents and aggregate batch vent streams—monitoring, recordkeeping, and reporting requirements]
Control device | Parameters to be monitored | Recordkeeping and reporting requirements for monitored parameters
Thermal incinerator | Firebox temperature ᵃ | 1. Continuous records as specified in § 63.1326(e)(1).ᵇ
|  | 2. Record and report the average firebox temperature measured during the performance test—NCS.ᶜ
|  | 3. Record the batch cycle daily average firebox temperature as specified in § 63.1326(e)(2).
|  | 4. Report all batch cycle daily average temperatures that are below the minimum operating value established in the NCS or operating permit and all instances when monitoring data are not collected—PR.d e
Catalytic incinerator | Temperature upstream and downstream of the catalyst bed | 1. Continuous records as specified in § 63.1326(e)(1).ᵇ 2. Record and report the average upstream and bed downstream temperatures and the average temperature difference across the catalyst bed measured during the performance test—NCS.ᶜ 3. Record the batch cycle daily average upstream temperature and temperature difference across catalyst bed as specified in § 63.1326(e)(2). 4. Report all batch cycle daily average upstream temperatures that are below the minimum upstream value established in the NCS or operating permit—PR.d e 5. Report all batch cycle daily average temperature differences across the catalyst bed that are below the minimum difference established in the NCS or operating permit—PR.ᵈ,ᵉ 6. Report all instances when monitoring data are not collected.ᵉ
Boiler or Process Heater with a design heat input capacity less than 44 megawatts and where the batch process vents or aggregate batch vent streams are not introduced with or used as the primary fuel | Firebox temperature ᵃ | 1. Continuous records as specified in § 63.1326(e)(1).ᵇ 2. Record and report the average firebox temperature measured during the performance test—NCS.ᶜ 3. Record the batch cycle daily average firebox temperature as specified in § 63.1326(e)(2).ᵈ 4. Report all batch cycle daily average temperatures that are below the minimum operating value established in the NCS or operating permit and all instances when monitoring data are not collected—PR.d e
Flare | Presence of a flame at the pilot light | 1. Hourly records of whether the monitor was continuously operating during batch emission episodes, or portions thereof, selected for control and whether a flame was continuously present at the pilot light during said periods.
|  | 2. Record and report the presence of a flame at the pilot light over the full period of the compliance determination—NCS.ᶜ
|  | 3. Record the times and durations of all periods during batch emission episodes, or portions thereof, selected for control when all flames at the pilot light of a flare are absent or the monitor is not operating.
|  | 4. Report the times and durations of all periods during batch emission episodes, or portions thereof, selected for control when all flames at the pilot light of a flare are absent—PR.ᵈ
Scrubber for halogenated batch process vents or aggregate batch vent strreams (Note: Controlled by a combustion device other than a flare) | a. pH of scrubber effluent, and | 1. Continuous records as specified in § 63.1326(e)(1).ᵇ 2. Record and report the average pH of the scrubber effluent measured during the performance test—NCS.ᶜ 3. Record the batch cycle daily average pH of the scrubber effluent as specified in § 63.1326(e)(2). 4. Report all batch cycle daily average pH values of the scrubber effluent that are below the minimum operating value established in the NCS or operating permit and all instances when monitoring data are not collected—PR.d e
| b. Scrubber liquid and gas flow rates | 1. Records as specified in § 63.1326(e)(1).ᵇ
|  | 2. Record and report the scrubber liquid/gas ratio averaged over the full period of the performance test—NCS.ᶜ
|  | 3. Record the batch cycle daily average scrubber liquid/gas ratio as specified in § 63.1326(e)(2).
|  | 4. Report all batch cycle daily average scrubber liquid/gas ratios that are below the minimum value established in the NCS or operating permit and all instances when monitoring data are not collected—PR.d e
Absorber ᶠ | a. Exit temperature of the absorbing liquid, and | 1. Continuous records as specified in § 63.1326(e)(1).ᵇ 2. Record and report the average exit temperature of the absorbing liquid measured during the performance test—NCS.ᶜ 3. Record the batch cycle daily average exit temperature of the absorbing liquid as specified in § 63.1326(e)(2) for each batch cycle. 4. Report all the batch cycle daily average exit temperatures of the absorbing liquid that are above the maximum operating value established in the NCS or operating permit and all instances when monitoring data are not collected—PR.d e
| b. Exit specific gravity for the absorbing liquid | 1. Continuous records as specified in § 63.1326(e)(1).ᵇ 2. Record and report the average exit specific gravity measured during the performance test—NCS.ᶜ 3. Record the batch cycle daily average exit specific gravity as specified in § 63.1326(e)(2). 4. Report all batch cycle daily average exit specific gravity values that are above the maximum operating value established in the NCS or operating permit and all instances when monitoring data are not collected—PR.d e
Condenser ᶠ | Exit (product side) temperature | 1. Continuous records as specified in § 63.1326(e)(1).ᵇ
|  | 2. Record and report the average exit temperature measured during the performance test—NCS.ᶜ
|  | 3. Record the batch cycle daily average exit temperature as specified in § 63.1326(e)(2).
|  | 4. Report all batch cycle daily average exit temperatures that are above the maximum operating value established in the NCS or operating permit and all instances when monitoring data are not collected—PR.d e
Carbon Adsorber ᶠ | a. Total regeneration steam flow or nitrogen flow, or pressure (gauge or absolute) during carbon bed regeneration cycle(s), and | 1. Record the total regeneration steam flow or nitrogen flow, or pressure for each carbon bed regeneration cycle. 2. Record and report the total regeneration steam flow or nitrogen flow,or pressure during carbon bed regeneration cycle measured during the performance test—NCS.ᶜ 3. Report all carbon bed regeneration cycles when the total regeneration steam flow or nitrogen flow, or pressure is above the maximum value established in the NCS or operating permit—PR.d e
| b. Temperature of the carbon bed after regeneration and within 15 minutes of completing any cooling cycle(s) | 1. Record the temperature of the carbon bed after each regeneration and within 15 minutes of completing any cooling cycle(s).
|  | 2. Record and report the temperature of the carbon bed after each regeneration and within 15 minutes of completing any cooling cycle(s) measured during the performance test—NCS.ᶜ
|  | 3. Report all carbon bed regeneration cycles when the temperature of the carbon bed after regeneration, or within 15 minutes of completing any cooling cycle(s), is above the maximum value established in the NCS or operating permit—PR.d e
All control devices | a. Diversion to the atmosphere from the control device or | 1. Hourly records of whether the flow indicator was operating during batch emission episodes, or portions thereof, selected for control and whether a diversion was detected at any time during said periods as specified in § 63.1326(e)(3).
|  | 2. Record and report the times of all periods during batch emission episodes, or portions thereof, selected for control when emissions are diverted through a bypass line or the flow indicator is not operating—PR.ᵈ
| b. Monthly inspection of sealed valves. | 1. Records that monthly inspections were performed as specified in § 63.1326(e)(4)(i).
|  | 2. Record and report all monthly inspections that show the valves are in the diverting position or that a seal has been broken—PR.ᵈ
Absorber, condenser, and carbon Adsorber (as an alternative to the requirements previously presented in this table) | Concentration level or reading indicated by an organic monitoring device at the outlet of the control device | 1. Continuous records as specified in § 63.1326(e)(1).ᵇ 2. Record and report the average batch vent concentration level or reading measured during the performance test—NCS.ᶜ 3. Record the batch cycle daily average concentration level or reading as specified § 63.1326(e)(2). 4. Report all batch cycle daily average concentration levels or readings that are above the maximum value established in the NCS or operating permit and all instances when monitoring data are not collected—PR.d e
ᵃ Monitor may be installed in the firebox or in the ductwork immediately downstream of the firebox before any substantial heat exchange is encountered.
ᵇ “Continuous records” is defined in § 63.111.
ᶜ NCS = Notification of Compliance Status described in § 63.1335(e)(5).
ᵈ PR = Periodic Reports described in § 63.1335(e)(6).
ᵉ The periodic reports shall include the duration of periods when monitoring data are not collected as specified in § 63.1335(e)(6)(iii)(C).
ᶠ Alternatively, these devices may comply with the organic monitoring device provisions listed at the end of this table.

* * * * *

Table 9 of Subpart JJJ of Part 63
[Routine reports required by this subpart]
Reference | Description of report | Due date
§ 63.1335(b) and subpart A | Refer to Table 1 and subpart A | Refer to subpart A.
§ 63.1335(e)(3) | Precompliance Report ᵃ | Existing affected sources—December 19, 2000. New affected sources—with application for approval of construction or reconstruction.
§ 63.1335(e)(4) | Emissions Averaging Plan | September 19, 2000.
§ 63.1335(e)(4)(iv) | Updates to Emissions Averaging Plan | 120 days prior to making the change necessitating the update.
§ 63.1335(e)(5) | Notification of Compliance Status ᵇ | Within 150 days after the compliance date.
§ 63.1335(e)(6) | Periodic Reports | Semiannually, no later than 60 days after the end of each 6-month period. See § 63.1335(e)(6)(i) for the due date for the first report.
§ 63.1335(e)(6)(xi) | Quarterly reports for Emissions Averaging | No later than 60 days after the end of each quarter. First report is due with the Notification of Compliance Status.
§ 63.1335(e)(6)(xii) | Quarterly reports upon request of the Administrator | No later than 60 days after the end of each quarter.
§ 63.1335(e)(7)(i) | Storage Vessels Notification of Inspection | At least 30 days prior to the refilling of each storage vessel or the inspection of each storage vessel.
§ 63.1335(e)(7)(ii) | Requests for Approval of a Nominal Control Efficiency for Use in Emissions Averaging | Initial submittal is due with the Emissions Averaging Plan specified in § 63.1335(e)(4)(ii); later submittals are made at the discretion of the owner or operator as specified in § 63.1335(e)(7)(ii) (B).
§ 63.1335(e)(7)(iii) | Notification of Change in the Primary Product | 1. For notification under § 63.1310(f)(3)(ii)—notification submittal date at the discretion of the owner or operator.ᶜ
|  | 2. For notification under § 63.1310(f)(4)(ii)—within 6 months of making the determination.
ᵃ There may be two versions of this report due at different times; one for equipment subject to § 63.1331 and one for other emission points subject to this subpart.
ᵇ There will be two versions of this report due at different times; one for equipment subject to § 63.1331 and one for other emission points subject to this subpart.
ᶜ Note that the TPPU remains subject to this subpart until the notification under § 63.1310(f)(3)(i) is made.

[FR Doc. 01-17333 Filed 7-13-01; 8:45 am]

BILLING CODE 6560-01-U